DEPARTMENT OF COMMERCE

National Oceanic and Atmospheric Administration

RIN 0648-XE109

New England Fishery Management Council; Public Meeting

AGENCY: National Marine Fisheries Service (NMFS), National Oceanic and Atmospheric Administration (NOAA), Commerce

ACTION: Notice; public meeting.

SUMMARY: The New England Fishery Management Council (Council) is scheduling a public meeting of its Groundfish Advisory Panel to consider actions affecting New England fisheries in the exclusive economic zone (EEZ). Recommendations from this group will be brought to the full Council for formal consideration and action, if appropriate.

DATES: This meeting will be held on Wednesday, September 2, 2015 at 9:30 a.m.

ADDRESSES:

Meeting address: The meeting will be held at the Hilton Garden Inn, 100 Boardman Street, Boston, MA 02128; phone: (617) 567-6789; fax: (617) 561-0798.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The items of discussion on the agenda are:

The Advisory Panel plans to discuss Framework Adjustment 55 (FW55): (a) Receive an update on the development of FW55/specifications and the addition of a sector, (b) receive an overview of Transboundary Resource Assessment Committee Assessments for Eastern Georges Bank (EGB) cod, EGB Haddock and Georges Bank yellowtail flounder, (c) discuss recommendations for the Groundfish Committee. The panel will receive an update on the development of the At-Sea Monitoring Framework Adjustment and discuss recommendations to the Groundfish Committee. They will also receive and overview of the Amendment 18 (A18) Public Hearings and develop if necessary final recommendations to the Groundfish Committee on preferred alternatives in A18. Additionally, they will discuss enforcement concerns for the groundfish fishery on EGB in order to improve identification of the separator panel within the trawl net and discuss recommendations to the Groundfish Committee. They will also discuss other business as necessary.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: August 13, 2015.
Tracey L. Thompson,
Acting Deputy Director, Office of Sustainable Fisheries, National Marine Fisheries Service.

[FR Doc. 2015-20340 Filed 8-17-15; 8:45 am]

BILLING CODE 3510-22-P